SELECTIVE SERVICE SYSTEM

32 CFR Part 1615

Additional Methods of Selective Service Registration

AGENCY: Selective Service System (SSS).

ACTION: Final rule; technical amendment.

SUMMARY: In accordance with Proclamation 7275 of February 22, 2000, this Final Rule amends the Administration of Registration rules by providing additional methods of registering with the Selective Service System. Proclamation 7275 amended Proclamation 4771 to allow for additional methods of registration. These methods include registration on the Selective Service Internet web site, telephonic registration, registration on approved Government forms, including the Selective Service reminder mailback card, and registration through school registrars. These amendments will reduce a burden on the public by informing it of the additional registration methods prescribed by the Director of Selective Service.

DATES: Effective November 9, 2000.

FOR FURTHER INFORMATION CONTACT: Rudy Sanchez, Office of the General Counsel, Selective Service System, 1515 Wilson Boulevard, Arlington, VA 22209-2425. Telephone (703) 605-4071.

SUPPLEMENTARY INFORMATION: The Military Selective Service Act (Act) requires that certain males register with the Selective Service System. 50 U.S.C. App. 451 et seq. The time, place and manner of registration is to be determined by proclamation of the President and by rules and regulations. 50 U.S.C. App. 453(a). The President is permitted to delegate the authority to issue rules and regulations under the Act. 50 U.S.C. App. 460(c). On October 12, 1971, E.O. 11623 was signed delegating the authority to issue rules and regulations under the Military Selective Service Act to the Director of the Selective Service System. Proclamation 4771 of July 2, 1980, provides for individuals to comply with the registration requirement of the Military Selective Service Act by completing a Registration Card at a classified Post Office.

This Proclamation was amended by Proclamation 7275, February 22, 2000 (65 FR 9199, February 24, 2000), to provide additional means to comply with the registration requirement. The rules are being amended to reflect additional registration methods prescribed by the Director of Selective Service as authorized by Proclamation 7275. The technical amendments to the rules on registration and the duty to register will inform the public about the various means to comply with the registration requirement.

The SSS considers this rule (32 CFR Part 1615) to be a procedural rule which is exempt from the notice and comment under 5 U.S.C. 533(b)(3)(A). This rule is not a significant rule for the purpose of Executive Order 12866 and has not been reviewed by the Office of Management and Budget. As required by the Regulatory Flexibility Act, SSS certifies that these regulatory amendments will not have a significant impact on small business entities.

List of Subjects in 32 CFR Part 1615

Selective Service System.

For the reason set forth in the preamble amend part 1615 of title 32 of the Code of Federal Regulations as follows:

PART 1615—ADMINISTRATION OF REGISTRATION

1. The authority citation for part 1615 is revised to read as follows:

Authority: Military Selective Service Act, 50 U.S.C. App. 451 et seq.; E.O. 11623, 36 FR 19963, 3 CFR, 1971-1975 Comp., p. 614, as amended by E.O. 12608, 52 FR 34617, 3 CFR, 1987 Comp., p. 245.

2. Amend § 1615.1 to revise paragraph (a)(1), the first sentence of paragraph (a)(2), and the last sentence of paragraph (b), and to add paragraph (c) to read as follows:

§ 1615.1 Registration.

(a) * * *

(1) Completing a registration card or other method of registration prescribed by the Director of Selective Service by a person required to register; and

(2) The recording of the registration information furnished by the registrant in the records (master computer file ) of the Selective Service System. * * *

(b) * * * If the registrant does not receive the verification notice within 90 days after he completed a method of registration prescribed by the Director, he shall advise in writing the Selective Service System, P.O. Box 94638, Palatine, IL 60094-4638.

(c) The methods of registration prescribed by the Director include completing a Selective Service Registration Card at a classified Post Office, registration on the Selective Service Internet web site (http://www.sss.gov), telephonic registration, registration on approved Federal and State Government forms, registration through high school and college registrars, and Selective Service remainder mailback card.

3. Amend § 1615.4 to remove the period at the end of the introductory text and add a colon in its place and to revise paragraph (a) and the first sentence of paragraph (b) to read as follows:

§ 1615.4 Duty of persons required to register.

* * * * *

(a) To complete the registration process by a method prescribed by the Director of Selective Service and to record thereon his name, date of birth, sex, Social Security Account Number (SSAN), current mailing address, permanent residence, telephone number, date signed, and signature, if requested; and (b) To submit for inspection, upon request, evidence of his identity to a person authorized to accept the registration information. * * * *

Gil Coronado,
Director.

[FR Doc. 00-25725 Filed 10-6-00; 8:45 am]

BILLING CODE 8015-01-P